DEPARTMENT OF ENERGY

Federal Energy Regulatory Commission

Combined Notice of Filings #1

Take notice that the Commission received the following electric corporate filings:

Docket Numbers: EC23-14-000.

Applicants: San Diego Gas & Electric Company, AES Energy Storage, LLC.

Description: Supplement to October 26, 2022 Joint Application for Authorization Under Section 203 of the Federal Power Act of San Diego Gas & Electric Company, et al. under.

Filed Date: 12/19/22.

Accession Number: 20221219-5237.

Comment Date: 5 p.m. ET 12/29/22.

Take notice that the Commission received the following electric rate filings:

Docket Numbers: ER10-1246-017; ER10-1252-017; ER10-1253-015; ER10-1982-016.

Applicants: Consolidated Edison Company of New York, Inc., Orange and Rockland Utilities, Inc., Consolidated Edison Solutions, Inc., Consolidated Edison Energy, Inc.

Description: Triennial Market Power Analysis for Northeast Region of Consolidated Edison Company of New York, Inc., et al.

Filed Date: 12/15/22.

Accession Number: 20221215-5238.

Comment Date: 5 p.m. ET 2/13/23.

Docket Numbers: ER10-1330-009; ER10-2032-010; ER10-2033-009; ER12-2313-007; ER15-190-021; ER15-255-005; ER16-141-006; ER16-355-004; ER17-2336-007; ER18-1343-015; ER18-2465-002; ER18-2466-002; ER19-2343-003.

Applicants: 2018 ESA Project Company, LLC, Federal Way Powerhouse LLC, Potter Road Powerhouse LLC, Carolina Solar Power, LLC, Shoreham Solar Commons LLC, Colonial Eagle Solar, LLC, Conetoe II Solar, LLC, Duke Energy Beckjord Storage, LLC, Duke Energy Renewable Services, LLC, Laurel Hill Wind Energy, LLC, Duke Energy Ohio, Inc., Duke Energy Kentucky, Inc., North Allegheny Wind, LLC.

Description: Triennial Market Power Analysis for Northeast Region of Duke MBR Sellers.

Filed Date: 12/20/22.

Accession Number: 20221220-5296.

Comment Date: 5 p.m. ET 2/20/23.

Docket Numbers: ER10-1790-021; ER12-1825-035; ER14-2672-022; ER21-1251-001; ER21-1716-003; ER22-2141-001.

Applicants: Sun Mountain Solar 1, LLC, BP Energy Holding Company LLC, Bighorn Solar 1, LLC, BP Energy Retail Company LLC, BP Energy Retail Company California, LLC, BP Energy Company.

Description: Triennial Market Power Analysis for Northwest Region of BP Energy Company, et al.

Filed Date: 12/21/22.

Accession Number: 20221221-5341.

Comment Date: 5 p.m. ET 2/20/23.

Docket Numbers: ER10-2124-025.

Applicants: Spring Canyon Energy LLC.

Description: Triennial Market Power Analysis for Northwest Region of Spring Canyon Energy LLC.

Filed Date: 12/21/22.

Accession Number: 20221221-5336.

Comment Date: 5 p.m. ET 2/20/23.

Docket Numbers: ER10-2125-026.

Applicants: Judith Gap Energy LLC.

Description: Triennial Market Power Analysis for Northwest Region of Judith Gap Energy LLC.

Filed Date: 12/21/22.

Accession Number: 20221221-5323.

Comment Date: 5 p.m. ET 2/20/23.

Docket Numbers: ER10-2128-025.

Applicants: Wolverine Creek Energy LLC.

Description: Triennial Market Power Analysis for Northwest Region of Wolverine Creek Energy LLC.

Filed Date: 12/21/22.

Accession Number: 20221221-5322.

Comment Date: 5 p.m. ET 2/20/23.

Docket Numbers: ER10-2129-015.

Applicants: Grays Harbor Energy LLC.

Description: Triennial Market Power Analysis for Northwest Region of Grays Harbor Energy LLC.

Filed Date: 12/21/22.

Accession Number: 20221221-5335.

Comment Date: 5 p.m. ET 2/20/23.

Docket Numbers: ER10-2132-025.

Applicants: Willow Creek Energy LLC.

Description: Triennial Market Power Analysis for Northwest Region of Willow Creek Energy LLC.

Filed Date: 12/21/22.

Accession Number: 20221221-5319.

Comment Date: 5 p.m. ET 2/20/23.

Docket Numbers: ER10-2135-015.

Applicants: Spindle Hill Energy LLC.

Description: Triennial Market Power Analysis for Northwest Region of Spindle Hill Energy LLC.

Filed Date: 12/21/22.

Accession Number: 20221221-5324.

Comment Date: 5 p.m. ET 2/20/23.

Docket Numbers: ER10-2383-013; ER10-2384-011; ER14-2820-011; ER14-2821-011; ER16-853-006; ER16-855-006; ER16-856-006; ER16-857-006; ER16-858-006; ER16-860-006; ER16-861-006; ER19-1200-007; ER20-2014-002.

Applicants: Rattlesnake Flat, LLC, Clearway Power Marketing LLC, Iron Springs Solar, LLC, Granite Mountain Solar West, LLC, Granite Mountain Solar East, LLC, Escalante Solar III, LLC, Escalante Solar II, LLC, Escalante Solar I, LLC, Enterprise Solar, LLC, Spring Canyon Energy III LLC, Spring Canyon Energy II LLC, Mountain Wind Power, LLC, Mountain Wind Power II LLC.

Description: Triennial Market Power Analysis for Northwest Region of Clearway Power Marketing LLC, et al.

Filed Date: 12/20/22.

Accession Number: 20221220-5297.

Comment Date: 5 p.m. ET 2/20/23.

Docket Numbers: ER10-2596-012; ER12-2200-007.

Applicants: Mehoopany Wind Energy LLC, Fowler Ridge II Wind Farm LLC.

Description: Triennial Market Power Analysis for Northeast Region of Fowler Ridge II Wind Farm LLC, et al.

Filed Date: 12/21/22.

Accession Number: 20221221-5325.

Comment Date: 5 p.m. ET 2/20/23.

Docket Numbers: ER10-2764-025.

Applicants: Vantage Wind Energy LLC.

Description: Triennial Market Power Analysis for Northwest Region of Vantage Wind Energy LLC.

Filed Date: 12/21/22.

Accession Number: 20221221-5334.

Comment Date: 5 p.m. ET 2/20/23.

Docket Numbers: ER10-3297-018.

Applicants: Powerex Corporation.

Description: Notice of Change in Status of Powerex Corp.

Filed Date: 12/21/22.

Accession Number: 20221221-5328.

Comment Date: 5 p.m. ET 1/11/23.

Docket Numbers: ER11-2029-008.

Applicants: Cedar Creek II, LLC.

Description: Triennial Market Power Analysis for Northwest Region of Cedar Creek II, LLC.

Filed Date: 12/22/22.

Accession Number: 20221222-5314.

Comment Date: 5 p.m. ET 2/20/23.

Docket Numbers: ER11-2557-005; ER11-2552-005; ER11-2558-006; ER11-2555-004; ER11-2556-005.

Applicants: National Grid Port Jefferson, National Grid Glenwood Energy Center LLC, Niagara Mohawk Power Corporation, Massachusetts Electric Company, New England Power Company.

Description: Triennial Market Power Analysis for Northeast Region of New England Power Company, et al.

Filed Date: 12/22/22.

Accession Number: 20221222-5313.

Comment Date: 5 p.m. ET 2/20/23.

Docket Numbers: ER19-1217-003.

Applicants: Montana-Dakota Utilities Co.

Description: Triennial Market Power Analysis for Northwest Region of Montana-Dakota Utilities Co.

Filed Date: 12/22/22.

Accession Number: 20221222-5320.

Comment Date: 5 p.m. ET 2/20/23.

Docket Numbers: ER20-2444-005; ER20-2445-005.

Applicants: Prineville Solar Energy LLC, Millican Solar Energy LLC.

Description: Triennial Market Power Analysis for Northwest Region of Millican Solar Energy LLC, et al.

Filed Date: 12/21/22.

Accession Number: 20221221-5333.

Comment Date: 5 p.m. ET 2/20/23.

Docket Numbers: ER23-724-000.

Applicants: Tri-State Generation and Transmission Association, Inc.

Description: § 205(d) Rate Filing: Initial Filing of Rate Schedule FERC No. 352 to be effective 11/2/2022.

Filed Date: 12/23/22.

Accession Number: 20221223-5001.

Comment Date: 5 p.m. ET 1/13/23.

Docket Numbers: ER23-725-000.

Applicants: PJM Interconnection, L.L.C.

Description: § 205(d) Rate Filing: Critical Natural Gas Infrastructure as Demand Response in the PJM Markets to be effective 2/22/2023.

Filed Date: 12/23/22.

Accession Number: 20221223-5010.

Comment Date: 5 p.m. ET 1/13/23.

Docket Numbers: ER23-726-000.

Applicants: Fresh Air Energy XXIII, LLC.

Description: Baseline eTariff Filing: Fresh Air Energy XXIII, LLC MBR Tariff to be effective 2/6/2023.

Filed Date: 12/23/22.

Accession Number: 20221223-5048.

Comment Date: 5 p.m. ET 1/13/23.

Docket Numbers: ER23-727-000.

Applicants: PGR 2022 Lessee 2, LLC.

Description: Baseline eTariff Filing: PGR 2022 Lessee 2, LLC MBR Tariff to be effective 2/6/2023.

Filed Date: 12/23/22.

Accession Number: 20221223-5051.

Comment Date: 5 p.m. ET 1/13/23.

Docket Numbers: ER23-728-000.

Applicants: PJM Interconnection, L.L.C.

Description: Tariff Amendment: Notice of Cancellation of ISA, SA No. 6590; Queue No. AC1-171 to be effective 10/18/2022.

Filed Date: 12/23/22.

Accession Number: 20221223-5083.

Comment Date: 5 p.m. ET 1/13/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2022.
Debbie-Anne A. Reese,
Deputy Secretary.

[FR Doc. 2022-28453 Filed 12-29-22; 8:45 am]

BILLING CODE 6717-01-P